DEPARTMENT OF HEALTH AND HUMAN SERVICES

Food and Drug Administration

[Docket No. 99D-5435]

Guidance for Industry on Photosafety Testing; Availability; Correction

AGENCY: Food and Drug Administration, HHS.

ACTION: Notice; correction.

SUMMARY: The Food and Drug Administration is correcting a notice that appeared in the Federal Register of May 7, 2003 (68 FR 24487). The document announced the availability of a guidance for industry entitled “Photosafety Testing.” The document was published with an inadvertent error. This document corrects that error.

FOR FURTHER INFORMATION CONTACT: Joyce Strong, Office of Policy and Planning (HF-27), Food and Drug Administration, 5600 Fishers Lane, Rockville, MD 20857, 301-827-7010.

SUPPLEMENTARY INFORMATION: In FR Doc. 03-11216, appearing on page 24487 in the Federal Register of Wednesday, May 7, 2003, the following correction is made:

1. On page 24487, in the first column, in the heading of the document, “[Docket No. 99D-5453]” is corrected to read “[Docket No. 99D-5435]”.

Dated: May 7, 2003.
Jeffrey Shuren,
Assistant Commissioner for Policy.

[FR Doc. 03-11924 Filed 5-13-03; 8:45 am]

BILLING CODE 4160-01-S